DEPARTMENT OF TRANSPORTATION

Federal Aviation Administration

14 CFR Part 97

[Docket No. 31398; Amdt. No. 3982]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective November 16, 2021. The compliance date for each SIAP, associated Takeoff Minimums, and ODP is specified in the amendatory provisions.

The incorporation by reference of certain publications listed in the regulations is approved by the Director of the Federal Register as of November 16, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on October 29, 2021.
Thomas J. Nichols,
Flight Standards Service Manager, Aviation Safety, Standards Section, Flight Procedures & Airspace Group Flight Technologies & Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
2-Dec-21 | ME | Biddeford | Biddeford Muni | 1/1082 | 10/4/21 | This NOTAM, published in Docket No. 31396, Amdt No. 3980, TL 21-25, (86 FR 59848, October 29, 2021) is hereby rescinded in its entirety.
2-Dec-21 | KY | Morehead | Morehead-Rowan County Clyde A Thomas Rgnl | 1/0010 | 10/7/21 | RNAV (GPS) RWY 2 , Amdt 1.
2-Dec-21 | KY | Morehead | Morehead-Rowan County Clyde A Thomas Rgnl | 1/0011 | 10/7/21 | RNAV GPS RWY 20, Amdt 1.
2-Dec-21 | GA | Mc Rae | Telfair-Wheeler | 1/0837 | 10/7/21 | RNAV (GPS) RWY 3, Orig-A.
2-Dec-21 | GA | Mc Rae | Telfair-Wheeler | 1/0869 | 10/7/21 | RNAV (GPS) RWY 21, Amdt 1C.
2-Dec-21 | FL | Leesburg | Leesburg Intl | 1/0912 | 10/7/21 | RNAV (GPS) RWY 31, Amdt 1A.
2-Dec-21 | AK | Tanana | Ralph M Calhoun Meml | 1/0913 | 10/19/21 | RNAV (GPS) RWY 7, Orig-B.
2-Dec-21 | AK | Tanana | Ralph M Calhoun Meml | 1/0914 | 10/19/21 | VOR/DME RWY 7, Amdt 2B.
2-Dec-21 | AR | Little Rock | Bill And Hillary Clinton Ntl/Adams Fld | 1/1024 | 10/8/21 | RNAV (GPS) RWY 4L, Amdt 1E.
2-Dec-21 | TX | Wichita Falls | Wichita Valley | 1/1025 | 10/7/21 | VOR-B, Amdt 6A.
2-Dec-21 | IL | Danville | Vermilion Rgnl | 1/1030 | 10/8/21 | RNAV (GPS) RWY 3, Orig-A.
2-Dec-21 | IL | Danville | Vermilion Rgnl | 1/1032 | 10/8/21 | ILS OR LOC RWY 21, Amdt 7A.
2-Dec-21 | IL | Danville | Vermilion Rgnl | 1/1033 | 10/8/21 | RNAV (GPS) RWY 21, Orig-A.
2-Dec-21 | IL | Danville | Vermilion Rgnl | 1/1034 | 10/8/21 | RNAV (GPS) RWY 34, Orig-A.
2-Dec-21 | IL | Danville | Vermilion Rgnl | 1/1035 | 10/8/21 | VOR/DME RWY 3, Amdt 12A.
2-Dec-21 | LA | Ruston | Ruston Rgnl | 1/1044 | 10/8/21 | RNAV (GPS) RWY 18, Orig-B.
2-Dec-21 | LA | Ruston | Ruston Rgnl | 1/1045 | 10/8/21 | NDB RWY 18, Orig-E.
2-Dec-21 | KS | Oakley | Oakley Muni | 1/1175 | 10/19/21 | NDB RWY 34, Amdt 3A.
2-Dec-21 | NE | North Platte | North Platte Rgnl/Lee Bird Fld | 1/1753 | 10/12/21 | VOR RWY 35, Amdt 18C.
2-Dec-21 | TN | Dayton | Mark Anton | 1/2005 | 10/19/21 | RNAV (GPS) RWY 21, Amdt 1A.
2-Dec-21 | TN | Dayton | Mark Anton | 1/2009 | 10/19/21 | RNAV (GPS) RWY 3, Orig-A.
2-Dec-21 | SC | Darlington | Darlington County | 1/2134 | 10/19/21 | RNAV (GPS) RWY 23, Orig-C.
2-Dec-21 | SC | Darlington | Darlington County | 1/2217 | 10/19/21 | RNAV (GPS) RWY 5, Orig-D.
2-Dec-21 | OH | Lima | Lima Allen County | 1/2251 | 10/19/21 | RNAV (GPS) RWY 28, Amdt 2B.
2-Dec-21 | AK | Minchumina | Minchumina | 1/3070 | 10/19/21 | RNAV (GPS) RWY 3, Orig-C.
2-Dec-21 | VA | Dublin | New River Valley | 1/3123 | 10/19/21 | VOR/DME RWY 6, Amdt 8.
2-Dec-21 | VA | Dublin | New River Valley | 1/3124 | 10/19/21 | RNAV (GPS) RWY 24, Amdt 1A.
2-Dec-21 | VA | Dublin | New River Valley | 1/3133 | 10/19/21 | RNAV (GPS) RWY 6, Orig-A.
2-Dec-21 | NE | Oshkosh | Garden County/King Rhiley Fld | 1/3616 | 10/19/21 | RNAV (GPS) RWY 12, Amdt 2B.
2-Dec-21 | NE | Oshkosh | Garden County/King Rhiley Fld | 1/3617 | 10/19/21 | RNAV (GPS) RWY 30, Amdt 1A.
2-Dec-21 | VA | Richmond | Richmond Exec-Chesterfield County | 1/3623 | 10/19/21 | RNAV (GPS) RWY 33, Orig-D.
2-Dec-21 | VA | Richmond | Richmond Exec-Chesterfield County | 1/3624 | 10/19/21 | ILS OR LOC RWY 33, Amdt 2D.
2-Dec-21 | MT | Livingston | Mission Fld | 1/3627 | 10/19/21 | RNAV (GPS) RWY 22, Orig-A.
2-Dec-21 | MT | Livingston | Mission Fld | 1/3628 | 10/19/21 | VOR/DME-B, Amdt 2.
2-Dec-21 | WV | Parkersburg | Mid-Ohio Valley Rgnl | 1/3633 | 10/19/21 | RNAV (GPS) RWY 3, Amdt 2C.
2-Dec-21 | WV | Parkersburg | Mid-Ohio Valley Rgnl | 1/3635 | 10/19/21 | RNAV (GPS) RWY 10, Orig-C.
2-Dec-21 | WV | Parkersburg | Mid-Ohio Valley Rgnl | 1/3636 | 10/19/21 | RNAV (GPS) RWY 21, Amdt 2D.
2-Dec-21 | WV | Parkersburg | Mid-Ohio Valley Rgnl | 1/3637 | 10/19/21 | RNAV (GPS) RWY 28, Orig-C.
2-Dec-21 | WV | Parkersburg | Mid-Ohio Valley Rgnl | 1/3638 | 10/19/21 | VOR RWY 21, Amdt 17D.
2-Dec-21 | WV | Parkersburg | Mid-Ohio Valley Rgnl | 1/3640 | 10/19/21 | ILS OR LOC RWY 3, Amdt 14C.
2-Dec-21 | AZ | Douglas Bisbee | Bisbee Douglas Intl | 1/3831 | 10/19/21 | RNAV (GPS) RWY 17, Orig-A.
2-Dec-21 | AZ | Douglas Bisbee | Bisbee Douglas Intl | 1/3832 | 10/19/21 | VOR/DME RWY 17, Amdt 6A.
2-Dec-21 | AZ | Douglas Bisbee | Bisbee Douglas Intl | 1/3833 | 10/19/21 | VOR RWY 17, Amdt 3A.
2-Dec-21 | IN | Rochester | Fulton County | 1/4141 | 10/19/21 | RNAV (GPS) RWY 11, Amdt 1.
2-Dec-21 | IN | Rochester | Fulton County | 1/4148 | 10/19/21 | RNAV (GPS) RWY 29, Amdt 1.
2-Dec-21 | ME | Biddeford | Biddeford Muni | 1/4605 | 10/18/21 | RNAV (GPS) RWY 6, Orig-A.
2-Dec-21 | KS | Belleville | Belleville Muni | 1/4674 | 10/19/21 | RNAV (GPS) RWY 18, Orig-C.
2-Dec-21 | KS | Belleville | Belleville Muni | 1/4676 | 10/19/21 | RNAV (GPS) RWY 36, Orig-C.
2-Dec-21 | KS | Belleville | Belleville Muni | 1/4677 | 10/19/21 | VOR-A, Amdt 3E.
2-Dec-21 | TX | Fredericksburg | Gillespie County | 1/5199 | 10/19/21 | RNAV (GPS) RWY 14, Amdt 1C.
2-Dec-21 | TX | Fredericksburg | Gillespie County | 1/5201 | 10/19/21 | RNAV (GPS) RWY 32, Amdt 1D.
2-Dec-21 | KS | Oakley | Oakley Muni | 1/5756 | 10/19/21 | RNAV (GPS) RWY 34, Orig-A.
2-Dec-21 | AK | Anchorage | Ted Stevens Anchorage Intl | 1/6735 | 10/18/21 | ILS OR LOC RWY 7R, ILS RWY 7R (SA CAT I), ILS RWY 7R (CAT II AND III), Amdt 4.
2-Dec-21 | TX | Galveston | Scholes Intl At Galveston | 1/7013 | 10/19/21 | RNAV (GPS) RWY 18, Amdt 2B.
2-Dec-21 | TX | Galveston | Scholes Intl At Galveston | 1/7014 | 10/19/21 | ILS OR LOC RWY 14, Amdt 12C.
2-Dec-21 | TX | Galveston | Scholes Intl At Galveston | 1/7015 | 10/19/21 | RNAV (GPS) RWY 14, Amdt 1A.
2-Dec-21 | TX | Galveston | Scholes Intl At Galveston | 1/7016 | 10/19/21 | RNAV (GPS) RWY 32, Amdt 1A.
2-Dec-21 | TX | Galveston | Scholes Intl At Galveston | 1/7024 | 10/19/21 | RNAV (GPS) RWY 36, Amdt 1A.
2-Dec-21 | TX | Galveston | Scholes Intl At Galveston | 1/7025 | 10/19/21 | VOR RWY 14, Amdt 4C.
2-Dec-21 | TX | Levelland | Levelland Muni | 1/7089 | 10/19/21 | RNAV (GPS) RWY 17, Amet 1B.
2-Dec-21 | TX | Levelland | Levelland Muni | 1/7111 | 10/19/21 | RNAV (GPS) RWY 35, Amdt 1B.
2-Dec-21 | VA | Stafford | Stafford Rgnl | 1/7599 | 10/19/21 | ILS OR LOC RWY 33, Orig-A.
2-Dec-21 | VA | Stafford | Stafford Rgnl | 1/7602 | 10/19/21 | VOR RWY 33, Amdt 1.
2-Dec-21 | IL | Mount Sterling | Mount Sterling Muni | 1/8504 | 10/19/21 | VOR/DME-A, Amdt 1.
2-Dec-21 | IL | Mount Sterling | Mount Sterling Muni | 1/8508 | 10/19/21 | RNAV (GPS) RWY 36, Orig-A.
2-Dec-21 | IL | Mount Sterling | Mount Sterling Muni | 1/8510 | 10/19/21 | RNAV (GPS) RWY 18, Orig-A.
2-Dec-21 | MN | St Cloud | St Cloud Rgnl | 1/8711 | 10/19/21 | VOR RWY 31, Orig-B.
2-Dec-21 | MN | St Cloud | St Cloud Rgnl | 1/8715 | 10/19/21 | RNAV (GPS) RWY 23, Orig-B.
2-Dec-21 | OH | Celina | Lakefield | 1/8793 | 10/19/21 | RNAV (GPS) RWY 8, Orig.
2-Dec-21 | OH | Celina | Lakefield | 1/8796 | 10/19/21 | RNAV (GPS) RWY 26, Orig.
2-Dec-21 | FL | Perry | Perry-Foley | 1/8850 | 10/19/21 | RNAV (GPS) RWY 18, Amdt 1A.
2-Dec-21 | FL | Perry | Perry-Foley | 1/8853 | 10/19/21 | RNAV (GPS) RWY 36, Amdt 1A.
2-Dec-21 | MN | Paynesville | Paynesville Muni | 1/8858 | 10/19/21 | RNAV (GPS) RWY 29, Amdt 1B.
2-Dec-21 | MN | Paynesville | Paynesville Muni | 1/8862 | 10/19/21 | RNAV (GPS) RWY 11, Amdt 1B.
2-Dec-21 | MN | St Cloud | St Cloud Rgnl | 1/9013 | 10/19/21 | RNAV (GPS) RWY 13, Amdt 1.
2-Dec-21 | MN | St Cloud | St Cloud Rgnl | 1/9016 | 10/19/21 | RNAV (GPS) RWY 5, Orig-B.
2-Dec-21 | MN | St Cloud | St Cloud Rgnl | 1/9018 | 10/19/21 | ILS OR LOC/DME RWY 13, Amdt 1.
2-Dec-21 | MN | St Cloud | St Cloud Rgnl | 1/9020 | 10/19/21 | ILS OR LOC RWY 31, Amdt 3B.
2-Dec-21 | MN | St Cloud | St Cloud Rgnl | 1/9022 | 10/19/21 | RNAV (GPS) RWY 31, Amdt 1A.
2-Dec-21 | OH | Lima | Lima Allen County | 1/9191 | 10/19/21 | ILS OR LOC RWY 28, Amdt 5A.
2-Dec-21 | FM | Kosrae | Kosrae | 1/9377 | 10/13/21 | NDB-A, Orig-C.
2-Dec-21 | FM | Kosrae | Kosrae | 1/9384 | 10/13/21 | RNAV (GPS) RWY 23, Orig-B.
2-Dec-21 | FM | Kosrae | Kosrae | 1/9386 | 10/13/21 | RNAV (GPS) RWY 5, Orig-B.
2-Dec-21 | TX | Gladewater | Gladewater Muni | 1/9756 | 10/7/21 | RNAV (GPS) RWY 14, Orig-C.
2-Dec-21 | TX | Gladewater | Gladewater Muni | 1/9764 | 10/7/21 | RNAV (GPS) RWY 32, Orig-B.

[FR Doc. 2021-24851 Filed 11-15-21; 8:45 am]

BILLING CODE 4910-13-P